NATIONAL AERONAUTICS AND SPACE ADMINISTRATION

[Notice: (17-027)]

NASA Advisory Council Science Committee Ad Hoc Task Force on Big Data; Meeting

AGENCY: National Aeronautics and Space Administration.

ACTION: Notice of meeting.

SUMMARY: In accordance with the Federal Advisory Committee Act, as amended, the National Aeronautics and Space Administration (NASA) announces a meeting of the Ad Hoc Task Force on Big Data. This task force reports to the NASA Advisory Council's Science Committee. The meeting will be held for the purpose of soliciting and discussing, from the scientific community and other persons, scientific and technical information relevant to big data.

DATES: Thursday, June 22, 2017, 11:00 a.m.-6:00 p.m., and Friday, June 23, 2017, 11:00 a.m.-6:00 p.m., Eastern Daylight Time. (EDT).

FOR FURTHER INFORMATION CONTACT: Ms. Karshelia Henderson, Science Mission Directorate, NASA Headquarters, Washington, DC 20546, (202) 358-2355, fax (202) 358-2779, or khenderson@nasa.gov.

SUPPLEMENTARY INFORMATION: The meeting will be open to the public telephonically and via WebEx. You must use a touch tone phone to participate in this meeting. Any interested person may call the USA toll free conference call number 1-888-324-9653 or toll number 1-312-470-7237, passcode 3883300 followed by the # sign, to participate in this meeting by telephone on both days. The WebEx link is https://nasa.webex.com/; the meeting number is 991 071 373 and the password is BDTFmtg#5 (case sensitive). The agenda for the meeting includes the following topics:

—NASA Data Science Program

—NASA Science Mission Directorate Data Archives Assessment

—NASA's Participation in Federal Big Data Initiatives

It is imperative that the meeting be held on these dates to accommodate the scheduling priorities of the key participants.

Patricia D. Rausch,
Advisory Committee Management Officer, National Aeronautics and Space Administration.

[FR Doc. 2017-10499 Filed 5-22-17; 8:45 am]

BILLING CODE 7510-13-P